DEPARTMENT OF HOUSING AND URBAN DEVELOPMENT

[Docket No. FR-5689-N-08]

Proposed Information Collection for Public Comment: Impact of Housing and Services Interventions on Homeless Families—36-Month Follow-Up Data Collection

AGENCY: Office of Policy Development and Research, HUD.

ACTION: Notice of proposed information collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 15, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: The Impact of Housing and Services Interventions on Homeless Families—36-month Follow-up Data Collection.

OMB Approval Number: N/A.

Type of Request: New.

Form Number: N/A.

Description of the need for the information and proposed use: The 36-Month Head of Household Follow-up Survey Instrument and the 36-Month Child Data Collection Instruments will support the collection of data from families enrolled in the Family Options Study. The Family Options Study, formerly referred to as The Impact of Housing and Services Interventions on Homeless Families, was launched by HUD in 2008 in response to Senate Report 109-109 for the FY 2006 Transportation, Treasury, the Judiciary, Housing and Urban Development and Related Agencies Appropriations Bill, which directed HUD to “undertake research to ascertain the impact of various service and housing interventions in ending homelessness for families.” The Family Options Study is comparing several combinations of housing assistance and services in a rigorous, multi-site experiment to determine which interventions work best to promote housing stability, family preservation, child well-being, adult well-being, and self-sufficiency. Between 2010 and 2012, over 2,300 families in twelve communities enrolled in the study. Prior rounds of data collection from the adult head of household have been conducted at the point of study enrollment/random assignment, and eighteen (18) months following the date of study enrollment/random assignment. Extensive data collection from a sample of children within study families has also been conducted by the research team with funding from the Eunice Kennedy Shriver National Institute of Child Health and Human Development (NICHD). This next phase of data collection in the Family Options Study will support the continued collection of data from study families 36 months following the date of study enrollment/random assignment. Given the length of time which families are eligible to remain in the interventions being tested (one of the four interventions being studied can serve families for up to 18 months, and a second can serve families for up to 24 months), this final wave of data is critical to understanding how families fare after an intervention ends, and whether the same interventions that are effective in the short-term (18 months), are also effective in the longer-term (36 months).

Respondents (i.e. affected public): Study households.

Form | Respondent sample | Number of respondents | Average time to complete (minimum, maximum) in minutes | Frequency | Total burden (hours)
36-Month Head of Household Follow-up Survey Instrument | All enrolled study families (N = 2,307) | 2,307 | 65 (55-75) | 1 | 2,500
36-Month Child Data Collection | Up to two children per family | 2,800 | 60 (50-70) | 1 | 2,800
Total Burden Hours |  |  |  |  | 5,300

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 6, 2013.
Jean Lin Pao,
General Deputy Assistant Secretary, Office of Policy Development and Research.

[FR Doc. 2013-22456 Filed 9-13-13; 8:45 am]

BILLING CODE 4210-67-P